OFFICE OF PERSONNEL MANAGEMENT

Excepted Service

AGENCY: Office of Personnel Management (OPM).

ACTION: Notice.

SUMMARY: This gives notice of OPM decisions granting authority to make appointments under Schedules A, B, and C in the excepted service as required by 5 CFR 213.103.

FOR FURTHER INFORMATION CONTACT: Roland Edwards, Senior Executive Resource Services, Employee Services, 202-606-2246.

SUPPLEMENTARY INFORMATION: Appearing in the listing below are the individual authorities established under Schedules A, B, and C between May 1, 2010, and May 31, 2010. These notices are published monthly in the Federal Register at http://www.gpoaccess.gov/fr/. A consolidated listing of all authorities as of June 30 is also published each year. The following Schedules are not codified in the Code of Federal Regulations. These are agency-specific exceptions.

Schedule A

The following Schedule A authorities to report during May 2010.

Section 213.3106(b) Department of Defense.

(11) Not to exceed 3000 positions that require unique cyber security skills and knowledge to perform cyber risk and strategic analysis, incident handling and malware/vulnerability analysis, program management, distributed control systems security, cyber incident response, cyber exercise facilitation and management, cyber vulnerability detection and assessment, network and systems engineering, enterprise architecture, intelligence analysis, investigation, investigative analysis and cyber-related infrastructure inter-dependency analysis. This authority may be used to make permanent, time-limited and temporary appointments in the following occupational series: Security (GS-0080), intelligence analysts (GS-0132), computer engineers (GS-0854), electronic engineers (GS-0855), computer scientists (GS-1550), operations research (GS-1515), criminal investigators (GS-1811), telecommunications (GS-0391), and IT specialists (GS-2210). Within the scope of this authority, the U.S. Cyber Command is also authorized to hire miscellaneous administrative and program (GS-0301) series when those positions require unique cyber security skills and knowledge. All positions will be at the General Schedule (GS) grade levels 09-15 or equivalent. No new appointments may be made under this authority after December 31, 2012.

Section 213.3103 Executive Office of the President.

(i) Office of National Drug Control Policy.

(1) Not to exceed 18 positions, GS-15 and below, of senior policy analysts and other personnel with expertise in drug related issues and/or technical knowledge to aid in anti-drug abuse efforts.

Schedule B

No Schedule B authorities to report during May 2010.

Schedule C

The following Schedule C appointments were approved during May 2010.

Office of Management and Budget

BOGS10017 Special Assistant to the Executive Associate Director. Effective May 4, 2010.

BOGS10018 Confidential Assistant to the Associate Director for General Government Programs. Effective May 7, 2010.

BOGS10019 Confidential Assistant to the Associate Director for National Security Programs. Effective May 7, 2010.

BOGS10020 Press Secretary, Management to the Associate Director, Strategic Planning and Communications. Effective May 19, 2010.

Department of State

DSGS70106 Senior Policy Advisor to the Secretary on Innovation. Effective May 25, 2010.

Department of Treasury

DYGS00526 Speechwriter to the Chief of Staff. Effective May 14, 2010.

DYGS00527 Senior Advisor to the Chief of Staff. Effective May 14, 2010.

DYGS00528 Media Affairs Specialist to the Deputy Assistant Secretary (Public Affairs). Effective May 21, 2010.

Department of Defense

DDGS17279 Defense Fellows for White House Liaison. Effective May 3, 2010.

DDGS17281 Defense Fellows for White House Liaison. Effective May 3, 2010.

DDGS17283 Protocol Officer to the Secretary of Defense for Protocol. Effective May 10, 2010.

DDGS17282 Special Assistant of Defense Public Affairs. Effective May 13, 2010.

DDGS17280 Defense Fellow for White House Liaison. Effective May 21, 2010.

DDGS17284 Special Assistant for Research of Defense Public Affairs. Effective May 26, 2010.

Department of the Army

DWGS10100 Special Assistant of the Army (Installations and Environment). Effective May 4, 2010.

Department of Navy

DNGS10852 Special Assistant of the Navy for Business Operations and Transformation. Effective May 19, 2010.

Department of Justice

DJGS00603 Policy Advisor to the Assistant Attorney General, Office of Justice Programs. Effective May 4, 2010.

DJGS00606 Senior Counsel to the Deputy Attorney General. Effective May 4, 2010.

DJGS00607 Press Assistant to the Director, Office of Public Affairs. Effective May 7, 2010.

DJGS00608 Counsel to the Assistant Attorney General. Effective May 13, 2010.

Department of Homeland Security

DMGS00793 Press Secretary of External Affairs and Communications. Effective May 13, 2010.

DMGS00397 Special Assistant to the Chief Human Capital Officer. Effective May 17, 2010.

DMGS00669 Director of Legislative Affairs for Intelligence and Analysis. Effective May 17, 2010.

Department of the Interior

DIGS01183 Director, Office of Youth in Natural Resources to the Assistant Secretary Policy Management and Budget. Effective May 5, 2010.

DIGS01184 Deputy White House Liaison. Effective May 5, 2010.

Department of Agriculture

DAGS60603 Special Assistant for Marketing and Regulatory Programs. Effective May 7, 2010.

DAGS00191 Special Assistant for Congressional Relations. Effective May 20, 2010.

DAGS60604 Special Assistant to the Administrator. Effective May 21, 2010.

Department of Commerce

DCGS60596 Confidential Assistant to the Director of Public Affairs. Effective May 5, 2010.

DCGS00573 Special Assistant to the Director, Advocacy Center. Effective May 10, 2010.

DCGS00673 Special Assistant to the Deputy Assistant Secretary for Services. Effective May 10, 2010.

DCGS00183 Special Advisor for Communications and Information. Effective May 20, 2010.

DCGS60440 Special Assistant for White House Initiatives to the Director, Office of White House Liaison. Effective May 20, 2010.

DCGS00409 Policy and Congressional Affairs Specialist for National Telecommunications and Information Administration. Effective May 26, 2010.

Department of Labor

DLGS60112 Regional Representative for Congressional and Intergovernmental Affairs. Effective May 7, 2010.

DLGS60111 Regional Representative for Congressional and Intergovernmental Affairs. Effective May 19, 2010.

Department of Health and Human Services

DHGS60540 Confidential Assistant, Health. Effective May 3, 2010.

DHGS60113 Press Secretary (Health Reform) for Public Affairs. Effective May 6, 2010.

DHGS60114 Press Secretary (Health Reform) for Public Affairs. Effective May 6, 2010.

DHGS60678 Special Assistant to the Principal Deputy Administrator, Center for Medicare and Medicaid Services. Effective May 10, 2010.

DHGS60115 Surrogate Scheduler (Health Reform) for Public Affairs. Effective May 13, 2010.

DHGS60027 Deputy Director to the Director of Scheduling and Advance. Effective May 21, 2010.

DHGS60059 Deputy Director for Regional Outreach of Intergovernmental Affairs. Effective May 21, 2010.

DHGS60471 Director of Public Health Policy (Office of Health Reform) for Planning and Evaluation. Effective May 21, 2010.

Department of Education

DBGS00200 Special Assistant for Elementary and Secondary Education. Effective May 10, 2010.

DBGS00666 Director, White House Initiative on Tribal Colleges and Universities to the Under Secretary. Effective May 14, 2010.

DBGS00265 Special Assistant for Strategy. Effective May 19, 2010.

DBGS00562 Confidential Assistant to the Director, Scheduling and Advance Staff. Effective May 21, 2010.

DBGS00580 Deputy Assistant Secretary for Policy and Program Coordination for Elementary and Secondary Education. Effective May 27, 2010.

DBGS00638 Confidential Assistant to the Director, Intergovernmental Affairs. Effective May 27, 2010.

Department of Energy

DEGS00812 Congressional Affairs Specialist to the Director, Office of Congressional Affairs. Effective May 3, 2010.

DEGS00813 Senior Advisor, Loan Guarantee Program Office. Effective May 4, 2010.

DEGS00801 Special Assistant, Office of the American Recovery and Reinvestment Act. Effective May 7, 2010.

DEGS00814 Director, Office of Scheduling and Advance to the Chief of Staff. Effective May 13, 2010.

Small Business Administration

SBGS00708 Senior Advisor to the Associate Administrator for Investment. Effective May 5, 2010.

SBGS00706 Senior Policy Analyst to the Deputy Chief of Staff. Effective May 7, 2010.

SBGS00552 Assistant Administrator for Congressional and Legislative Affairs. Effective May 13, 2010.

SBGS00586 Special Assistant to the Deputy Administrator. Effective May 20, 2010.

General Services Administration

GSGS01441 Special Assistant to the Regional Administrator. Effective May 11, 2010.

Authority: 5 U.S.C. 3301 and 3302; E.O. 10577, 3 CFR 1954-1958 Comp., p. 218.

Office of Personnel Management.
John Berry,
Director.

[FR Doc. 2010-14826 Filed 6-18-10; 8:45 am]

BILLING CODE 6325-39-P